DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of two entities and two vessels that have been placed on OFAC's Specially Designated Nationals and Blocked Persons List (SDN List) based on OFAC's determination that one or more applicable legal criteria were satisfied. All property and interests in property subject to U.S. jurisdiction of these persons and vessels are blocked, and U.S. persons are generally prohibited from engaging in transactions with them.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://www.treasury.gov/ofac).

Notice of OFAC Action(s)

On March 6, 2024, OFAC determined that the property and interests in property subject to U.S. jurisdiction of the following entities and vessels are blocked under the relevant sanctions authority listed below.

Entities

1. HONGKONG UNITOP GROUP LTD, Unit 2508A, Bank of America Tower, 12, Harcourt Road, Central, Hong Kong, China; Secondary sanctions risk: section 1(b) of Executive Order 13224, as amended by Executive Order 13886; Organization Established Date 09 Jun 2023; C.R. No. 3287498 (Hong Kong); Identification Number IMO 6428388 [SDGT] (Linked To: AL-JAMAL, Sa'id Ahmad Muhammad).

Designated pursuant to section 1(a)(iii)(C) of Executive Order 13224 of September 23, 2001, “Blocking Property and Prohibiting Transactions With Persons Who Commit, Threaten to Commit, or Support Terrorism” (E.O. 13224), 3 CFR, 2019 Comp., p. 356., as amended by Executive Order 13886 of September 9, 2019, “Modernizing Sanctions To Combat Terrorism,” 84 FR 48041 (E.O. 13224, as amended) for having materially assisted, sponsored, or provided financial, material, or technological support for, or goods or services to or in support of, SA'ID AL-JAMAL (AL-JAMAL), a person whose property and interests in property are blocked pursuant to E.O. 13224, as amended.

2. RENEEZ SHIPPING LIMITED, Trust Company Complex, Ajeltake Road, Ajeltake, Majuro 96960, Marshall Islands; Secondary sanctions risk: section 1(b) of Executive Order 13224, as amended by Executive Order 13886; Organization Established Date 2023; Identification Number IMO 6388435 [SDGT] (Linked To: AL-JAMAL, Sa'id Ahmad Muhammad).

Designated pursuant to section 1(a)(iii)(C) of E.O. 13224, as amended, for having materially assisted, sponsored, or provided financial, material, or technological support for, or goods or services to or in support of, AL-JAMAL, a person whose property and interests in property are blocked pursuant to E.O. 13224, as amended.

Vessels

1. ETERNAL FORTUNE (3E5962) Crude Oil Tanker Panama flag; Secondary sanctions risk: section 1(b) of Executive Order 13224, as amended by Executive Order 13886; Vessel Registration Identification IMO 9230907; MMSI 352003073 (vessel) [SDGT] (Linked To: HONGKONG UNITOP GROUP LTD).

Identified pursuant to E.O. 13224, as amended, as property in which HONGKONG UNITOP GROUP LTD, a person whose property and interests in property are blocked pursuant to E.O. 13224, as amended, has an interest.

2. RENEEZ (T8A3663) Crude Oil Tanker Palau flag; Secondary sanctions risk: section 1(b) of Executive Order 13224, as amended by Executive Order 13886; Vessel Registration Identification IMO 9232450; MMSI 511100508 (vessel) [SDGT] (Linked To: RENEEZ SHIPPING LIMITED).

Identified pursuant to E.O. 13224, as amended, as property in which RENEEZ SHIPPING LIMITED, a person whose property and interests in property are blocked pursuant to E.O. 13224, as amended, has an interest.

Dated: March 6, 2024.
Bradley T. Smith,
Director, Office of Foreign Assets Control, U.S. Department of the Treasury.

[FR Doc. 2024-06238 Filed 3-22-24; 8:45 am]

BILLING CODE 4810-AL-P